DEPARTMENT OF HOMELAND SECURITY

Federal Emergency Management Agency

[Docket ID FEMA-2012-0003]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama: Baldwin (FEMA Docket No.: B-1249) | City of Gulf Shores (12-04-0183P) | The Honorable Robert S. Craft, Mayor, City of Gulf Shores, P.O. Box 299, Gulf Shores, AL 36547 | Community Development Department, 1905 West 1st Street, Gulf Shores, AL 36547 | June 4, 2012 | 015005
Arizona:
Coconino (FEMA Docket No.: B-1249) | City of Flagstaff (11-09-3783P) | The Honorable Sara Presler, Mayor, City of Flagstaff, 211 West Aspen Avenue, Flagstaff, AZ 86001 | City Hall Stormwater Management Section, 211 West Aspen Avenue, Flagstaff, AZ 86001 | May 15, 2012 | 040020
Coconino (FEMA Docket No.: B-1249) | City of Flagstaff (11-09-3785P) | The Honorable Sara Presler, Mayor, City of Flagstaff, 211 West Aspen Avenue, Flagstaff, AZ 86001 | City Hall Stormwater Management Section, 211 West Aspen Avenue, Flagstaff, AZ 86001 | May 15, 2012 | 040020
Coconino (FEMA Docket No.: B-1249) | City of Flagstaff (11-09-3787P) | The Honorable Sara Presler, Mayor, City of Flagstaff, 211 West Aspen Avenue, Flagstaff, AZ 86001 | City Hall Stormwater Management Section, 211 West Aspen Avenue, Flagstaff, AZ 86001 | May 9, 2012 | 040020
Coconino (FEMA Docket No.: B-1249) | Unincorporated areas of Coconino County (11-09-3785P) | The Honorable Lena Fowler, Chair, Coconino County Board of Supervisors, P.O. Box 948, Tuba City, AZ 86045 | 2500 North Fort Valley Road, Building 1, Flagstaff, AZ 86001 | May 15, 2012 | 040019
California:
Placer (FEMA Docket No.: B-1249) | Unincorporated areas of Placer County (12-09-0102P) | The Honorable Jennifer Montgomery, Chair, Placer County Board of Supervisors, 175 Fulweiler Avenue, Auburn, CA 95603 | Department of Public Works, 11444 B Avenue, Auburn, CA 95603 | June 4, 2012 | 060239
Tulare (FEMA Docket No.: B-1245) | Unincorporated areas of Tulare County (11-09-3490P) | The Honorable Mike Ennis, Chairman, Tulare County Board of Supervisors, 2800 West Burrell Avenue, Visalia, CA 93291 | Tulare County Resource Management Agency, 5961 South Mooney Boulevard, Visalia, CA 93227 | April 24, 2012 | 065066
Colorado:
Boulder (FEMA Docket No.: B-1249) | City of Lafayette (11-08-0913P) | The Honorable Carolyn Cutler, Mayor, City of Lafayette, 1290 South Public Road, Lafayette, CO 80026 | Planning Department, 1290 South Public Road, Lafayette, CO 80026 | April 27, 2012 | 080026
Boulder (FEMA Docket No.: B-1249) | City of Louisville (11-08-0913P) | The Honorable Bob Muckle, Mayor, City of Louisville, 749 Main Street, Louisville, CO 80027 | Community Development, 749 Main Street, Louisville, CO 80027 | April 27, 2012 | 085076
Boulder (FEMA Docket No.: B-1249) | Town of Erie (11-08-0866P) | The Honorable Joe Wilson, Mayor, Town of Erie, P.O. Box 750, Erie, CO 80516 | 1739 Broadway, Suite 300, Boulder, CO 80306 | May 15, 2012 | 080181
Boulder (FEMA Docket No.: B-1249) | Unincorporated areas of Boulder County (11-08-0866P) | The Honorable Ben Pearlman, Chairman, Boulder County Board of Commissioners, P.O. Box 471, Boulder, CO 80306 | 1739 Broadway, Suite 300, Boulder, CO 80306 | May 15, 2012 | 080023
Jefferson (FEMA Docket No.: B-1249) | City of Lakewood (12-08-0106P) | The Honorable Bob Murphy, Mayor, City of Lakewood, Lakewood Civic Center South, 480 South Allison Parkway, Lakewood, CO 80226 | Civic Center North—Engineering, 480 South Allison Parkway, Lakewood, CO 80226 | June 8, 2012 | 085075
Florida:
Charlotte (FEMA Docket No.: B-1249) | Unincorporated areas of Charlotte County (12-04-0206P) | The Honorable Bob Starr, Chairman, Charlotte County Board of Commissioners, 18500 Murdock Circle, Port Charlotte, FL 33948 | 18500 Murdock Circle, Port Charlotte, FL 33948 | June 1, 2012 | 120061
Leon (FEMA Docket No.: B-1249) | Unincorporated areas of Leon County (11-04-5515P) | The Honorable John E. Dailey, Chairman, Leon County Board of Commissioners, 301 South Monroe Street, 5th Floor, Tallahassee, FL 32301 | Leon County Courthouse, 301 South Monroe Street, Tallahassee, FL 32301 | May 21, 2012 | 120143
Monroe (FEMA Docket No.: B-1249) | Unincorporated areas of Monroe County (12-04-0072P) | The Honorable Kim Wigington, Mayor Pro Tem, Monroe County, 500 Whitehead Street, Suite 102, Key West, FL 33040 | Monroe County Department of Planning and Environmental Resources, 2798 Overseas Highway, Marathon, FL 33050 | May 31, 2012 | 125129
Monroe (FEMA Docket No.: B-1249) | Unincorporated areas of Monroe County (12-04-0205P) | The Honorable Kim Wigington, Mayor Pro Tem, Monroe County, 500 Whitehead Street, Suite 102, Key West, FL 33040 | Monroe County Department of Planning and Environmental Resources, 2798 Overseas Highway, Marathon, FL 33050 | May 7, 2012 | 125129
Orange (FEMA Docket No.: B-1249) | City of Orlando (11-04-8127P) | The Honorable Buddy Dyer, Mayor, City of Orlando, P.O. Box 4990, Orlando, FL 32808 | Permitting Services, 400 South Orange Avenue, Orlando, FL 32801 | May 9, 2012 | 120186
Polk (FEMA Docket No.: B-1249) | Unincorporated areas of Polk County (11-04-6001P) | The Honorable Sam Johnson, Chairman, Polk County Board of Commissioners, Drawer BC01, P.O. Box 9005, Bartow, FL 33831 | Polk County Engineering Division, 330 West Church Street, Bartow, FL 33830 | June 7, 2012 | 120261
Kansas:
Johnson (FEMA Docket No.: B-1249) | City of Leawood, (12-07-0114X) | The Honorable Peggy J. Dunn, Mayor, City of Leawood, 4800 Town Center Drive, Leawood, KS 66211 | 4800 Town Center Drive, Leawood, KS 66211 | May 23, 2012 | 200167
Nevada:
Clark (FEMA Docket No.: B-1249) | City of North Las Vegas (11-09-2931P) | The Honorable Shari L. Buck, Mayor, City of North Las Vegas, 2250 Las Vegas Boulevard North, North Las Vegas, NV 89030 | Public Works Department, 2200 Civic Center Drive, North Las Vegas, NV 89030 | June 4, 2012 | 320007
Clark (FEMA Docket No.: B-1249) | Unincorporated areas of Clark County (11-09-2931P) | The Honorable Susan Brager, Chair, Clark County Commissioners, 500 South Grand Central Parkway, Las Vegas, NV 89155 | Office of the Director of Public Works, 500 Grand Central Parkway, Las Vegas, NV 89155 | June 4, 2012 | 320003
South Carolina:
Charleston (FEMA Docket No.: B-1249) | City of Charleston (11-04-0520P) | The Honorable Joseph P. Riley, Jr., Mayor, City of Charleston, P.O. Box 652, Charleston, SC 29402 | Engineering Department, 75 Calhoun Street, Division 301, Charleston, SC 29401 | May 9, 2012 | 455412
Charleston (FEMA Docket No.: B-1249) | Unincorporated areas of Charleston County (11-04-0520P) | The Honorable Teddie E. Pryor, Sr., Chairman, Charleston County Council, Lonnie Hamilton, III Public Services Building, 4045 Bridge View Drive, North Charleston, SC 29405 | Charleston County Building Services, 4045 Bridge View Drive, North Charleston, SC 29405 | May 9, 2012 | 455413
Greenville (FEMA Docket No.: B-1249) | City of Greenville (11-04-4629P) | The Honorable Knox White, Mayor, City of Greenville, 206 South Main Street, Greenville, SC 29601 | City Hall, 206 South Main Street, Greenville, SC 29601 | May 21, 2012 | 450091
South Dakota:
Lake (FEMA Docket No.: B-1249) | City of Madison (11-08-0817P) | The Honorable Gene Hexom, Mayor, City of Madison, 116 West Center Street, Madison, SD 57042 | 116 East Center Street, Madison, SD 57042 | May 15, 2012 | 460044
Lake (FEMA Docket No.: B-1249) | Unincorporated areas of Lake County (11-08-0817P) | The Honorable Scott Pedersen, Chairman, Lake County Board of Commissioners, 200 East Center Street, Madison, SD 57042 | 200 West Center Street, Madison, SD 57042 | May 15, 2012 | 460276
Tennessee:
Hamilton (FEMA Docket No.: B-1245) | City of Chattanooga (11-04-2368P) | The Honorable Ron Littlefield, Mayor, City of Chattanooga, 101 East 11th Street, Chattanooga, TN 37402 | Planning Department, 1250 Market Street, Chattanooga, TN 37402 | April 24, 2012 | 470072
Utah:
Davis (FEMA Docket No.: B-1249) | City of Kaysville (11-08-0022P) | The Honorable Steve A. Hiatt, Mayor, City of Kaysville, 697 North 240 East, Kaysville, UT 84037 | 23 East Center, Kaysville, UT 84037 | June 4, 2012 | 490046

(Catalog of Federal Domestic Assistance No. 97.022, “Flood Insurance.”)

Dated: November 28, 2012.
James A. Walke,
Acting Deputy Associate Administrator for Mitigation, epartment of Homeland Security, Federal Emergency Management Agency.

[FR Doc. 2012-30374 Filed 12-17-12; 8:45 am]

BILLING CODE 9110-12-P